ENVIRONMENTAL PROTECTION AGENCY

[FRL-8280-6]

Science Advisory Board Staff Office; Advisory Council on Clean Air Compliance Analysis; Notification of a Public Advisory Committee Meeting

AGENCY: Environmental Protection Agency (EPA).

ACTION: Notice.

SUMMARY: The Environmental Protection Agency (EPA or Agency), Science Advisory Board (SAB) Staff Office announces a public meeting of the EPA's Advisory Council on Clean Air Compliance Analysis to review two draft documents associated with EPA's study on “Benefits and Costs of the Clean Air Act, 1990-2020.”

DATES: The public meeting will take place March 15, 2007 (8:30 a.m.-5 p.m.) and March 16, 2007 (8:30 a.m.-12 p.m.).

ADDRESSES: The meeting will be held in Suite 3700 of the U.S. Environmental Protection Agency Science Advisory Board Conference Center; 1025 F Street, NW., Washington, DC 20004, phone (202) 343-9999.

FOR FURTHER INFORMATION CONTACT: Members of the public who wish to obtain further information about this meeting must contact Dr. Holly Stallworth, Designated Federal Officer (DFO), EPA Science Advisory Board Staff Office (1400F), U.S. Environmental Protection Agency, 1200 Pennsylvania Avenue, NW., Washington, DC 20460; telephone/voice mail: (202) 343-9867 or, stallworth.holly@epa.gov.

SUPPLEMENTARY INFORMATION: Background: The Advisory Council on Clean Air Compliance Analysis (Council) is a Federal advisory committee chartered under the Federal Advisory Committee Act (FACA), as amended, 5 U.S.C., App. The Council is charged with providing advice, information and recommendations to the Agency on the economic issues associated with programs implemented under the Clean Air Act and its Amendments. Pursuant to a requirement under section 812 of the 1990 Clean Air Act Amendments, EPA conducts periodic studies to assess the benefits and the costs of the Clean Air Act. The Council has been the chief reviewing body for these studies and has issued advice on a retrospective study issued in 1997, a prospective study issued in 1999, and, since 2001, analytic blueprints for a second prospective study on the costs and benefits of clean air programs covering the years 1990-2020. EPA's Office of Air and Radiation (OAR) is proceeding to implement past advice offered by the Council on its forthcoming “Second Prospective Analysis.” OAR's Web site on these section 812 studies may be found at http://www.epa.gov/oar/sect812/.

The purpose of the meeting is for OAR to provide a status update on the ongoing 812 study (“Benefits and Costs of the CAA—1990-2020”) and for the Council to provide advice on the direct cost and the uncertainty modeling components of the study. Council members will discuss whether any additional advisory activities are needed prior to OAR's issuance of a final report. The meeting agenda and any background materials will be posted on the SAB Web Site at: http://www.epa.gov/sab prior to the meeting.

Procedures for Providing Public Input: Members of the public may submit relevant written or oral information for the Council to consider during the advisory process. Oral Statements: In general, individuals or groups requesting an oral presentation at a public meeting will be limited to three minutes per speaker with no more than a total of fifteen minutes for all speakers. Interested parties should contact the DFO, contact information provided above, in writing via e-mail at least by March 1, 2007 in order to be placed on the public speaker list.

Meeting Accommodations: For information on access or services for individuals with disabilities, please contact Dr. Holly Stallworth at (202) 343-9867, or via e-mail at stallworth.holly@epa.gov. To request accommodation of a disability, please contact Dr. Stallworth, preferably at least 10 days prior to the meeting, to give EPA as much time as possible to process your request.

Dated: February 16, 2007.
Anthony F. Maciorowski,
Deputy Director, EPA Science Advisory Board Staff Office.

[FR Doc. E7-3116 Filed 2-22-07; 8:45 am]

BILLING CODE 6560-50-P